DEPARTMENT OF HOMELAND SECURITY

Coast Guard

[Docket Number USCG-2021-0738]

Final Record of Decision for the Offshore Patrol Cutter Acquisition Program's Final Programmatic Environmental Impact Statement/Overseas Environmental Impact Statement

AGENCY: Coast Guard, DHS.

ACTION: Notice of availability of Record of Decision.

SUMMARY: In accordance with the National Environmental Policy Act (NEPA) of 1969 as amended and the Council on Environmental Quality NEPA Regulations, the Coast Guard has prepared a Record of Decision (ROD) for the Offshore Patrol Cutter (OPC) Program's acquisition of up to 21 OPCs and operation of up to 25 OPCs and by this notice, is announcing the availability of the ROD. The Coast Guard's decision to implement Alternative 1, described in the OPC's Final Programmatic Environmental Impact Statement/Overseas Environmental Impact Statement (PEIS/POEIS), will enable the Coast Guard to fulfill mission requirements that are supported by OPCs while implementing a full range of mitigation measures.

DATES: Captain Andrew Pecora, USCG, OPC Program Manager signed the Record of Decision on 09 September 2022.

ADDRESSES: The Final ROD, the complete text of the Final PEIS/POEIS, and any supporting documents related to this decision are available in the docket which can be found by searching the docket number USCG-2021-0738 using the Federal eRulemaking Portal at https://www.regulations.gov or at https://www.dcms.uscg.mil/Our-Organization/Assistant-Commandant-for-Engineering-Logistics-CG-4-/Program-Offices/Environmental-Management/Environmental-Planning-and-Historic-Preservation/.

FOR FURTHER INFORMATION CONTACT: If you have questions about the ROD, contact Andrew Haley, U.S. Coast Guard; email HQS-SMB-OPCEIS@uscg.mil.

SUPPLEMENTARY INFORMATION: Pursuant to Section 102(2)(c) of the National Environmental Policy Act (NEPA) of 1969, Sections 4321 et seq. of Title 42 United States Code, and Council on Environmental Quality Regulations (Sections 1500-1508 of Title 40 Code of Federal Regulations [CFR]), the Coast Guard announces its decision to implement the Coast Guard's preferred Alternative, Alternative 1, including the full range of mitigation measures, as described in the OPC's Final PEIS/POEIS. This decision will enable the Coast Guard to carry out primary missions supported by OPCs. A detailed description of Alternative 1 is provided in Chapter 2 (Proposed Action and Alternatives) of the OPC Final PEIS/POEIS.

In the Final PEIS/POEIS, the Coast Guard identified the Proposed Action as its preferred alternative in meeting the purpose and need to provide the Coast Guard with a reliable and operationally available presence to accomplish assigned missions in offshore waters exceeding the effective operating range of Fast Response Cutters. The Proposed Action includes the acquisition of up to 21 OPCs and operation of up to 25 OPCs with a design service life of 30 years to replace 28 aging MECs which would be, or have already been, decommissioned.

Following publication of a Notice of Intent (NOI) to prepare a PEIS/POEIS on November 18, 2020 (85 FR 73491), the Coast Guard prepared a Draft PEIS/POEIS in accordance with NEPA, as implemented by the CEQ Regulations (40 CFR 1500 et seq.); DHS Directive Number 023-01, Rev. 01 and Instruction 023-01-001, Rev. 01; and Coast Guard Commandant Instruction 5090.1. On September 20, 2021, the Coast Guard published a Notice of Availability (NOA) and a request for comments on the Draft PEIS/POEIS (86 FR 52162). The Coast Guard considered and addressed in the Final PEIS/POEIS comments received on the Draft PEIS/POEIS during the comment period. Public comments did not result in the addition of substantive revisions to the Draft PEIS/POEIS. Responses to comments are in Appendix I of the Final PEIS/POEIS.

On June 14, 2022, a NOA of the Final PEIS/POEIS was published in the Federal Register (87 FR 35986) initiating a 30 day opportunity to object. The Coast Guard received one comment and did not receive any eligible objections. The Final ROD documents the rationale for approving the Final PEIS/POEIS and is consistent with the Reviewing Officer's instructions. This notice is issued under the authority in 40 CFR 1505.2(a).

Responsible Official: The Responsible Official for approving the Final ROD is:

Dated: September 9, 2022.
Andrew T. Pecora,
Captain, USCG, OPC Program Manager.

[FR Doc. 2022-20696 Filed 9-22-22; 8:45 am]

BILLING CODE 9110-04-P